DEPARTMENT OF JUSTICE

Notice of Lodging of Consent Decree Under the Clean Water Act

Notice is hereby given that on October 31, 2011, a proposed Consent Decree in United States of America v. E.I. Du Pont de Nemours & Co., Case No. 1:11-cv-01057-UNA, D.J. Ref. 90-5-2-1-09746, was lodged with the United States District Court for the District of Delaware.

In this action the United States and Delaware sought civil penalties and injunctive relief in connection with Defendant E.I. Du Pont de Nemours & Co.'s (“Dupont”) violations of (1) Sections 301(a), 309(b) and (d), and 402 of the Federal Water Pollution Control Act, also known as the Clean Water Act, 42 U.S.C. 1311(a), 1319(b) and (d), and 1342 (the “CWA”), and (2) the Delaware Environmental Protection Act, 7 Del.0C. §§ 6001 et seq., and Delaware's Regulations Governing the Control of Water Pollution, 7 Del. Admin. Code § 7201. The United States and Delaware contend that Dupont violated its National Pollutant Discharge Elimination System permit on numerous occasions at its titanium dioxide production facility in Edge Moor, Delaware (“Edge Moor Plant”), near Wilmington, and also committed violations related to an inadequate Stormwater Pollution Prevention Plan and deficient Best Management Practices.

Under the proposed consent decree, Dupont has obligated itself to perform a comprehensive engineering study of the wastewater treatment plant and wastewater collection system at the Edge Moor Plant to correct any conditions which may result in violations of the above federal and state environmental protection laws. It has also agreed to pay a civil penalty of $500,000 to resolve its alleged liability. The penalty will be shared equally by the United States and Delaware.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to United States of America v. E.I. Du Pont de Nemours & Co., Case No. 1:11-cv-01057-UNA, D.J. Ref. 90-5-2-1-09746.

During the public comment period, the Consent Decree may be examined on the following Web site, http://www.usdoj.gov/enrd/Consent_Decrees.html, maintained by the Department of Justice. A copy of the Consent Decree may also be obtained by mail from the Consent Decree Library, P.O. Box 7611, U.S. Department of Justice, Washington, DC 20044-7611 or by faxing or emailing a request to Tonia Fleetwood (tonia.fleetwood@usdoj.gov), fax no. (202) 514-0097, phone confirmation number (202) 514-1547. In requesting a copy from the Consent Decree Library, please enclose a check in the amount of $10.50 (@ 25 cents per page reproduction cost) payable to the U.S. Treasury or, if by email or fax, forward a check in that amount to the Consent Decree Library at the stated address.

Robert Brook,
Assistant Chief, Environmental Enforcement Section, Environment and Natural Resources Division.

[FR Doc. 2011-28730 Filed 11-4-11; 8:45 am]

BILLING CODE 4410-15-P